DEPARTMENT OF EDUCATION

[CFDA Number: 84.133B-1]

Applications for New Awards; Rehabilitation Research and Training Center—Interventions To Promote Community Living Among Individuals With Disabilities; Correction

AGENCY: Office of Special Education and Rehabilitative Services, Department of Education.

ACTION: Notice; correction.

SUMMARY: On June 27, 2011, we published in the Federal Register (76 FR 37336-37341) a notice inviting applications for a new award for the Rehabilitation Research and Training Center (RRTC)—Interventions to Promote Community Living Among Individuals with Disabilities fiscal year (FY) 2011 competition. That notice incorrectly listed $700,000 as the amount of estimated available funds in the Estimated Available Funds section and $700,000 as the maximum proposed budget amount in the Maximum Award section. The correct amount of funds for estimated available funds and the maximum proposed budget is $850,000.

SUPPLEMENTARY INFORMATION: The Department of Education corrects the amount of funds listed under the headings Estimated Available Funds and Maximum Award. Specifically, we make the following corrections:

In column 1, on page 37337, we correct the Estimated Available Funds section to read: “Estimated Available Funds: $850,000.

In column 2, on page 37337, we correct the Maximum Award sections to read: “Maximum Award: We will reject any application that proposes a budget exceeding $850,000 for a single budget period of 12 months. The Assistant Secretary for Special Education and Rehabilitative Services may change the maximum amount through a notice published in the Federal Register.”

FOR FURTHER INFORMATION CONTACT: Lynn Medley or Marlene Spencer as follows:

Lynn Medley, U.S. Department of Education, 400 Maryland Avenue, SW., room 5140, PCP, Washington, DC 20202-2700. Telephone: (202) 245-7338 or by e-mail: Lynn.Medley@ed.gov.

Marlene Spencer, U.S. Department of Education, 400 Maryland Avenue, SW., room 5133, PCP, Washington, DC 20202-2700. Telephone: (202) 245-7532 or by e-mail: Marlene.Spencer@ed.gov.

If you use a TDD, call the Federal Relay Service (FRS), toll free, at 1-800-877-8339.

Accessible Format: Individuals with disabilities can obtain this document and a copy of the application package in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll free, at 1-800-877-8339.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: July 12, 2011.
Alexa Posny,
Assistant Secretary for Special Education and Rehabilitative Services.

[FR Doc. 2011-17860 Filed 7-14-11; 8:45 am]

BILLING CODE 4000-01-P